DEPARTMENT OF ENERGY

Federal Energy Regulatory Commission

[Docket No. CP07-208-000]

Rockies Express Pipeline LLC; Notice of Technical Conference

January 22, 2008.

On January 28, 2008, staff of the Office of Energy Projects (OEP) will hold a technical conference concerning issues raised by the U.S. Fish and Wildlife Service for the REX East Project. In particular, construction impacts dealing with the biological assessment and the Migratory Bird Treaty Conservation Agreement will be discussed.

The technical conference will be held on Monday, January 28, 2008, at 1:30 p.m. (EST) in Room 3M-2B at the Commission Headquarters in Washington, DC.

Information concerning any changes to the above may be obtained from the Commission's Office of External Affairs at (202) 502-8004 or toll free at 1-866-208-FERC (208-3372).

Kimberly D. Bose,
Secretary.

[FR Doc. E8-1595 Filed 1-29-08; 8:45 am]

BILLING CODE 6717-01-P